DEPARTMENT OF DEFENSE

Department of the Navy

[USN-2006-0068]

Privacy Act of 1974; System of Records

AGENCY: Department of the Navy, DoD.

ACTION: Notice to add systems of records.

SUMMARY: The Department of the Navy proposes to add a system of records to its inventory of record systems subject to the Privacy Act of 1974 (5 U.S.C. 552a), as amended.

DATES: The proposed action will be effective on January 10, 2007 unless comments are received that would result in a contrary determination.

ADDRESSES: Send comments to the Department of the Navy, PA/FOIA Policy Branch, Chief of Naval Operations (DNS-36), 2000 Navy Pentagon, Washington, DC 20350-2000.

FOR FURTHER INFORMATION CONTACT: Mrs. Doris Lama at (202) 685-325-6545.

SUPPLEMENTARY INFORMATION: The Department of the Navy's notices for systems of records subject to the Privacy Act of 1974 (5 U.S.C. 552a), as amended, have been published in the Federal Register and are available from the address above. The proposed systems reports, as required by 5 U.S.C. 552a(r) of the Privacy Act, were submitted on December 1, 2006, to the House Committee on Government Reform, the Senate Committee on Homeland Security and Governmental Affairs, and the Office of Management and Budget (OMB) pursuant to paragraph 4c of Appendix I to OMB Circular No. A-130, ‘Federal Agency Responsibilities for Maintaining Records About Individuals,’ dated February 8, 1996, (February 20, 1996, 61 FR 6427).

Dated: December 4, 2006.
C.R. Choate,
Alternate OSD Federal Register Liaison Officer, Department of Defense.

System name:

Department of Defense Voluntary Education System (DODVES).

System location:

Defense Activity for Non-Traditional Education Support, 6490 Saufley Field Road, Pensacola, FL 32509-5243.

Categories of individuals covered by the system:

Current and former DoD and Coast Guard personnel, including Reserves and National Guard.

Categories of records in the system:

Name; Social Security Number (SSN); date of birth; home and work e-mail addresses; phone numbers (home, office, cell, and fax); educational costs/tuition assistance; test scores; professional qualification and skills; training courses completed; certifications received; level of education; military awards received; duty assignment; and language skills.

Authority for the maintenance of the system:

10 U.S.C. 5013, Secretary of the Navy; 10 U.S.C. 5041, Headquarters, Marine Corps; DoD 1322.8, Voluntary Education Programs for Military Personnel; DoD 1322.25, Voluntary Education Program; and E.O. 9397 (SSN).

Purpose(s):

To provide voluntary educational programs to current and former military service members. The system will maintain educational records and track educational costs of those current and former service members who participate in the Defense Activity for Non-Traditional Education Support (DANTES) program; assist military personnel in making successful transitions to second careers in teaching; provide referral assistance and placement services to departing, qualified, military personnel for schools that serve low-income families throughout the U.S.; provide information to the Defense Finance and Accounting Service (DFAS) and to local DoD fiscal and accounting personnel for the purpose of financial management and funds disbursement; and promote partnerships between civilian and military communities through agreements with commercial testing agencies, colleges, universities, and educational associations.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To United States Coast Guard Voluntary Education Program Office for the purpose of education counseling, financial management, and funds disbursement.

To DoD contractors who conduct examinations and provide the results back to DANTES, and to DoD contract counselors who provide educational counseling support to the Service member.

The DoD “Blanket Routine Uses” set forth at the beginning of the Navy's compilation of systems of records notices also apply to this system.

Policies and practices for storing, retrieving, accessing, retaining, and disposing of records in the system:

Storage:

Paper and on electronic storage media.

Retrievability:

Name and last four digits of Social Security Number.

Safeguards:

Access is limited to those individuals who require the records for the performance of their official duties. Paper records are maintained in buildings with controlled or monitored access. During non-duty hours, records are secured in locked or guarded buildings, locked offices, or guarded cabinets. Password controlled system, file, and element access based on predefined need-to-know.

Retention and disposal:

Records are destroyed two years after the individual completes the educational program.

System manager(s) and address:

Director, Defense Activity for Non-Traditional Education Support, 6490 Saufley Field Road, Pensacola, FL 32509-5243.

Notification procedure:

Individuals seeking to determine whether information about themselves is contained in this system should address written inquiries to the Director, Defense Activity for Non-Traditional Education Support, 6490 Saufley Field Road, Pensacola, FL 32509-5243.

Individuals should submit a signed request that contains their full name and last 4 of their Social Security Number.

Record access procedures:

Individuals seeking access to information about themselves is contained in this system should address written inquiries to the Director, Defense Activity for Non-Traditional Education Support, 6490 Saufley Field Road, Pensacola, FL 32509-5243.

Individuals should submit a signed request that contains their full name and last 4 of their Social Security Number.

Contesting record procedures:

The Navy's rules for accessing records, and for contesting contents and appealing initial agency determinations are published in Secretary of the Navy Instruction 5211.5; 32 CFR part 701; or may be obtained from the system manager.

Record source categories:

Individual; DoD contractors that administer exams; colleges/universities/educational institutions personnel, DFAS and DoD activities.

Exemptions claimed for the system:

None.

[FR Doc. 06-9622 Filed 12-8-06; 8:45 am]

BILLING CODE 5001-06-M